DEPARTMENT OF COMMERCE

National Oceanic and Atmospheric Administration

[RTID 0648-XD693]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-day in person meeting of its Coastal Migratory Pelagics (CMP) Advisory Panel (AP).

DATES: The meeting will take place Tuesday, February 13, 2024, from 9 a.m. to 4 p.m., EST.

ADDRESSES: The meeting will be held at the Gulf Council Office. Please visit the Council's website by visiting www.gulfcouncil.org and clicking on the Meetings and Advisory Panel meetings tab, then CMP AP meeting for meeting materials.

Council address: Gulf of Mexico Fishery Management Council, 4107 W Spruce Street, Suite 200, Tampa, FL 33607; telephone: (813) 348-1630.

FOR FURTHER INFORMATION CONTACT: Dr. Natasha Mendez-Ferrer, Fishery Biologist, Gulf of Mexico Fishery Management Council; natasha.mendez@gulfcouncil.org, telephone: (813) 348-1630.

SUPPLEMENTARY INFORMATION:

Tuesday, February 13, 2024; 9 a.m.-4 p.m., EST

The meeting will begin with Election of Chair and Vice Chair, Adoption of Agenda, Approval of Minutes from the December 1, 2022 CMP Advisory Panel meeting; and, review of Scope of Work.

The AP will review the Coastal Migratory Pelagics Landings, Summary on Marine Recreational Information Program-Fishing Effort Survey (MRIP-FES) Pilot Study Results and SEDAR 81: Gulf Migratory Group Spanish Mackerel; including, presentations, background materials and the catch limit recommendations from the Council's Scientific and Statistical Committee (SSC).

The AP will review Draft Framework Amendment 14: Modifications to Gulf Spanish Mackerel Catch Limits; with presentations, document and provide recommendations. Staff will introduce and review the CMP Outreach Effort with the AP, receive Public Comment, and discuss any Other Business items.

—Meeting Adjourns

The meeting will be in-person. You may register to listen in to the webinar by visiting www.gulfcouncil.org and clicking on the Advisory Panel meeting on the calendar. The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid or accommodations should be directed to Kathy Pereira, kathy.pereira@gulfcouncil.org, at least 5 days prior to the meeting date.

Authority: 16 U.S.C. 1801 et seq.

Dated: January 24, 2024.
Diane M. DeJames-Daly,
Acting Deputy Director, Office of Sustainable Fisheries, National Marine Fisheries Service.

[FR Doc. 2024-01675 Filed 1-26-24; 8:45 am]

BILLING CODE 3510-22-P